DEPARTMENT OF TRANSPORTATION

Federal Transit Administration

FY 2023 Emergency Relief Grants for Public Transportation Systems Affected by Major Declared Disasters in Calendar Years 2017, 2020, 2021, and 2022

AGENCY: Federal Transit Administration (FTA), U.S. Department of Transportation (DOT).

ACTION: Notice of availability of emergency relief funding.

SUMMARY: The Federal Transit Administration (FTA) announces the opportunity to apply for $212,301,048 in grants under the Public Transportation Emergency Relief Program (Emergency Relief Program) for states, territories, local government authorities, Indian tribes, and other FTA recipients affected by major declared disasters in calendar years 2017, 2020, 2021, and 2022. FTA may award additional funding made available to the program prior to the announcement of project selections. Projects may include costs for disaster response, recovery, and rebuilding activities. Costs related to the COVID-19 pandemic are not eligible for this funding. FTA will distribute these funds in a manner consistent with the eligibility requirements of this program, subject to the priorities set forth below.

DATES: Complete proposals must be submitted electronically through the GRANTS.GOV “APPLY” function by May 26, 2023.

FOR FURTHER INFORMATION CONTACT: Thomas Wilson, Emergency Relief Program Manager, Office of Program Management, 1200 New Jersey Ave. SE, Washington, DC 20590, phone: (202) 366-5279, or email, Thomas.Wilson@dot.gov.

SUPPLEMENTARY INFORMATION:

Table of Contents

A. Program Description

B. Federal Award Information

C. Eligibility Information

D. Application and Submission Information

E. Application Review Information

F. Federal Award Administration Information

G. Federal Awarding Agency Contacts

H. Other Information

A. Program Description

Extreme weather and other destructive events occurring during calendar years 2017, 2020, 2021, and 2022 resulted in major disaster declarations across the Unites States. Transit systems in these disaster-affected areas may have provided emergency transportation services and may also have sustained damage to capital assets.

Federal public transportation law (49 U.S.C. 5324) provides FTA with the authority to reimburse public transportation emergency response and recovery costs after an emergency or major disaster that affects public transportation systems when funding is appropriated. As such, public transportation agencies, States, territories, local governmental authorities, Indian tribes, and other FTA grant recipients that provide or fund public transportation service in the affected areas may be eligible for Emergency Relief funding under the program contingent upon having experienced an eligible disaster and incurred associated costs that have not yet been reimbursed by FEMA or another entity. FTA will allocate funds consistent with the requirements of the final rule for the Emergency Relief Program, 49 CFR 602.

B. Federal Award Information

The Consolidated Appropriations Act, 2023 (Pub. L. 117-328), signed into law on December 29, 2022, appropriated $213,905,338 for FTA's Emergency Relief Program for transit systems affected by major declared disasters occurring in calendar years 2017, 2020, 2021, and 2022.

Of the $213,905,338 appropriated, 0.75%, or a total of $1,604,290 is set aside for administrative expenses and ongoing program management oversight activities as authorized under the Consolidated Appropriations Act, 2023, leaving $212,301,048 available for allocation to eligible recipients. FTA will make awards in the form of grants. Funds are available until expended.

Pre-award authority allows recipients to incur certain project costs before grant approval and retain the eligibility of those costs for subsequent reimbursement after grant approval. Pre-award authority as it relates to the Emergency Relief Program is described in the Emergency Relief Program final rule (49 CFR 602.11). FTA will grant pre-award authority to affected recipients for response, recovery, and rebuilding expenses incurred because of major declared disasters occurring in calendar years 2017, 2020, 2021, and 2022. Pre-award authority applies to expenses incurred in preparation for such disasters when forecasts specific to the disasters were available. Expenses incurred for general disaster preparedness are not eligible.

If a recipient intends to use pre-award authority for recovery and rebuilding expenses, FTA recommends the recipient work with the appropriate FTA regional office to verify that all proposed costs are eligible under the Emergency Relief Program in advance of incurring any costs to the extent practicable. FTA regional office contact information can be found at https://www.transit.dot.gov/about/regional-offices/regional-offices.

C. Eligibility Information

1. Eligible Applicants

Public transportation agencies, States, territories, local governmental authorities, Indian tribes, and other FTA grant recipients that provide or fund public transportation service are eligible for Emergency Relief funding under the program. Entities that generally receive transit funding directly from FTA may apply for these funds according to the instructions in this Notice of Availability of Emergency Relief Funding (NAERF). Public transit systems that are not FTA direct recipients (i.e., are subrecipients) but have incurred eligible expenses may receive Emergency Relief funding through a pass-through entity, such as a State or designated recipient. Please see www.fema.gov/disasters for a list of major disaster declarations, areas designated for Public Assistance, and incident periods. Transit systems that have been reimbursed by FEMA for emergency relief expenses or have used FTA formula funds to pay for emergency relief expenses may not apply for funds available through this Notice for activities already funded.

2. Cost Sharing or Matching

The maximum Federal share for all grants awarded via this notice is 90 percent of the net project cost unless the project is in response to or recovery from a major declared disaster in an insular area, in which case the maximum Federal share is 100 percent (48 U.S.C. 1469a). Applicants may request a waiver of the non-Federal share requirement (49 U.S.C. 5324(e)(3)). FTA's ability to provide a waiver and fully fund an applicant's request may depend on total requests from all applicants.

Eligible sources of non-Federal matching funds include:

i. Cash from non-governmental sources other than revenues from providing transit services (such as fare revenues);

ii. Non-farebox revenues from the operation of public transportation service, such as the sale of advertising and concession revenues;

iii. Monies received under a service agreement with a State or local social service agency or private social service organization;

iv. Undistributed cash surpluses, replacement or depreciation cash funds, reserves available in cash, or new capital;

v. In-kind contributions integral to the project;

vi. Revenue bond proceeds for a capital project, with prior FTA approval; and

vii. Transportation Development Credits (formerly referred to as Toll Revenue Credits).

The Community Development Block Grant (CDBG) program (42 U.S.C. 5305(a)(9)) provides that “payment of the non-Federal share required in connection with a Federal grant-in-aid program undertaken as part of activities assisted under [chapter 53 of title 42]” is an eligible activity. Since the CDBG statute specifically states it is available to fund the “non-Federal share” of other Federal grant programs, if the activity is eligible under the CDBG program, FTA will accept CDBG funds as local match.

3. Eligible Projects

Eligible projects include public transportation emergency operations, emergency protective measures, emergency repairs, and permanent repairs. For emergency service operations, service must be in addition to, or otherwise different than, regular service to be eligible. Farecards and lost fare revenue are not eligible expenses. Cost-effective resilience measures may be incorporated into replacement and repair projects.

To be considered eligible for funding described in this Notice, expenses must have been, or will be, incurred in a county designated as eligible for any category of Federal Emergency Management Agency (FEMA) Public Assistance—or incurred by transit agencies in the geographic area affected by the disaster by providing services to persons displaced from such counties—for an event that the President has declared a Major Disaster under the Stafford Act, other than the COVID-19 Pandemic, with an incident period partially or entirely occurring within calendar years 2017, 2020, 2021, or 2022. Recipients are strongly encouraged to review FTA's Emergency Relief Manual, found at https://www.transit.dot.gov/funding/grant-programs/emergency-relief-program/emergency-relief-manual-reference-manual-states, and FTA's Emergency Relief Frequently Asked Questions at https://www.transit.dot.gov/faq?combine&term_node_tid_depth=2666 to assist in the identification of potentially eligible projects and emergency expenses. Projects funded by FEMA, FTA formula funds, other Federal funds or insurance proceeds are not eligible.

D. Application and Submission Information

1. Address To Request Application Package

Applications may be accessed, and must be submitted, electronically through GRANTS.GOV. General information for accessing and submitting applications through GRANTS.GOV can be found at https://www.transit.dot.gov/funding/grants/applying/applying-fta-funding, along with specific instructions for the forms and attachments required for submission. Mail or fax submissions will not be accepted. The required SF-424 Application for Federal Assistance can be downloaded from GRANTS.GOV, and the required supplemental form can also be downloaded from GRANTS.GOV.

2. Content and Form of Application Submission

a. Proposal Submission

A complete proposal submission consists of two forms: (1) the SF-424 Application for Federal Assistance; and (2) the supplemental form. The supplemental form and any supporting documents must be attached to the “Attachments” section of the SF-424. The application must include responses to all sections of the SF-424 Application for Federal Assistance and the supplemental form, unless designated as optional. The information on the supplemental form will be used to determine applicant and project eligibility for the program, and to review the proposal against the criteria described in part E of this notice. Failure to submit the information as requested can delay review or disqualify the application.

FTA will accept only one supplemental form per SF-424 submission. FTA encourages applicants to consider submitting a single supplemental form that includes multiple activities as one project to be evaluated as a consolidated proposal. Applicants may include projects and operating expenses associated with multiple disaster events in the same application.

Applicants may attach additional supporting information to the SF-424 submission, including but not limited to documentation supporting the applicant's eligibility for the grant program, operating expenses incurred, or project budgets. Supporting documentation should be described and referenced by file name in the appropriate response section of the supplemental form, or it may not be reviewed.

Information such as applicant name, Federal amount requested, local match amount, and description of areas served may be requested in varying degrees of detail on both the SF-424 and supplemental form. Applicants must fill in all fields unless otherwise stated on the forms. Applicants should not place “N/A” or “refer to attachment” in lieu of typing in responses in the field sections. If information is copied into the supplemental form from another source, applicants should verify that pasted text is fully captured on the supplemental form and has not been truncated by the character limits built into the form. Applicants should use both the “Check Package for Errors” and the “Validate Form” validation buttons on both forms to check all required fields on the forms and ensure that the Federal and local amounts specified are consistent.

b. Application Content

The SF-424 Application for Federal Assistance and the supplemental form will prompt applicants for the required information:

i. Applicant Name

ii. Unique entity identifier (generated by SAM.GOV)

iii. Key contact information (including contact name, address, email address, and phone)

iv. Congressional district(s) in which project is located

v. Project information (including title, executive summary, and type)

vi. A detailed description of the project

vii. A list of projects that identifies emergency operations, emergency protective measures, and emergency repairs completed as well as permanent repairs needed to repair, reconstruct or replace seriously damaged or destroyed rolling stock, equipment, facilities, and infrastructure to a state of good repair. This list must also indicate the Major Declared Disaster that caused the damage or operational expense to be incurred. If the applicant received FEMA or other Federal funds, used FTA formula funds or received insurance proceeds for some activities related to a disaster but not all activities, the applicant must include a list of activities already funded and the source of funds.

viii. A description of the technical, legal, and financial capacity of the applicant

ix. A detailed project budget

x. An explanation of the scalability of the project

xi. Details on the non-Federal matching funds

xii. A detailed project timeline

3. Unique Entity Identifier and System for Award Management (SAM)

Each applicant is required to: (1) be registered in SAM.GOV before submitting an application; (2) provide a valid unique entity identifier in its application; and (3) continue to maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant has an exception approved by FTA or the U.S. Office of Management and Budget under 2 CFR 25.110(c) or (d).

All applicants must provide a unique entity identifier provided by SAM. Registration in SAM may take as little as 3-5 business days, but since there could be unexpected steps or delays (for example, if there is a need to obtain an Employer Identification Number), FTA recommends allowing ample time, up to several weeks, for completion of all steps. For additional information on obtaining a unique entity identifier, please visit https://www.sam.gov.

4. Submission Dates and Times

Project proposals must be submitted electronically through GRANTS.GOV by 11:59 p.m. Eastern Time on May 26, 2023. GRANTS.GOV attaches a time stamp to each application at the time of submission. Mail and fax submissions will not be accepted.

FTA urges applicants to submit applications at least 72 hours prior to the deadline to allow time to correct any problems that may have caused either GRANTS.GOV or FTA systems to reject the submission. Proposals submitted after the deadline will be considered only if lateness was due to extraordinary circumstances not under the applicant's control. Deadlines will not be extended due to scheduled website maintenance. GRANTS.GOV scheduled maintenance and outage times are announced on the GRANTS.GOV website.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to take steps to keep their registration up to date before submissions can be made successfully: (1) registration in SAM is renewed annually; and (2) persons making submissions on behalf of the Authorized Organization Representative (AOR) must be authorized in GRANTS.GOV by the AOR to make submissions.

5. Funding Restrictions

FTA Emergency Relief Program funds may not be used to reimburse project costs for which a transit system has received payments from insurance policies or from another Federal agency, including FEMA, or that were funded with any other FTA funds. Please see FTA's Emergency Relief Manual for a complete list and description of ineligible expenses.

Allowable direct and indirect expenses must be consistent with the Government-wide Uniform Administrative Requirements, Cost Principles, and Audit Requirements for Federal Awards (2 CFR 200) and FTA Circular 5010.1E.

E. Application Review Information

1. Review Criteria

Projects will be reviewed primarily on the responses provided in the supplemental form. Additional information may be provided to support the responses; however, any additional documentation must be directly referenced on the supplemental form, including the file name where the additional information can be found. FTA will review project proposals based on the criteria described in this notice.

In the event the funding requested exceeds the amount available, applicants are encouraged to identify scaled options to fund a project at less than the full requested amount. If an applicant advises that a project is scalable, the applicant must provide an appropriate minimum funding amount that will fund an eligible project that achieves the objectives of the program and meets all relevant program requirements. The applicant must provide a clear explanation of how the project budget would be affected by a reduced award. FTA may award a lesser amount whether or not a scalable option is provided. Responses to the Local Financial Commitment; Project Implementation Strategy; and Technical, Legal, and Financial Capacity criteria described below will not be used to disqualify applications but may be used to determine which applicants may need additional technical assistance to implement a grant award and to the extent necessary, evaluate any requests for a waiver of the local match requirement.

(a) Projects and Expenses

FTA will review operating and capital expenses along with damage assessments or damage estimates to confirm that project costs are eligible. FTA will also review information about insurance coverage and proceeds received and any other Federal funding that has been applied to project costs.

i. Documentation To Support Emergency Operating Requests

Applications must include the purpose of the emergency public transportation service provided, which may include: evacuations; rescue operations; moving rolling stock to higher ground to protect it from storm surges; additional bus or ferry service to replace inoperable rail service or to detour around damaged areas; returning evacuees to their homes after the disaster; and the net project costs related to reestablishing, expanding, or relocating public transportation service before, during, or after the disaster. The application must include the dates, hours, number and type of vehicles, and information relating to fares received for the emergency service. Only net project costs may be reimbursed.

ii. Documentation To Support Capital Requests

Applications must include copies of detailed damage assessments to support the request for assistance for capital projects. Some applicants may have previously worked with FTA or FEMA to develop damage assessments which may be included in the application. Typically, a damage assessment involves on-the-ground visits to the damage sites to verify the extent of the damage and to estimate the cost of repairs eligible for Emergency Relief funding. The damage assessment should document: (1) The specific location, type of facility or equipment, nature and extent of damage; (2) the most feasible and practical method of repair or replacement; and (3) the estimated repair or replacement cost.

(b) Local Financial Commitment

Applicants must identify the sources of funding for the total project cost, including other Federal funding if applicable, and the local cost share, and describe whether such funds are currently available for the project or will need to be secured if the project is selected for funding. Applicants should submit evidence of the availability of funds for the project, by including, for example, a board resolution, letter of support from the State, a budget document highlighting the line item or section committing funds to the proposed project, or other documentation of the source of other non-Federal funds.

Applicants must provide supporting documentation showing any other sources of funding available to address the damage resulting from a disaster, including, but not limited to, insurance policies and grant agreements with FEMA. FTA will not fund activities already included in an obligated grant with FEMA. Any applicant to FTA's Emergency Relief Program that has also applied to FEMA for emergency funding must document the scope of any agreements with FEMA, including amounts obligated and drawn down, the dates for which FEMA agreed to fund any operating costs, and a list of any capital projects included in the FEMA application or equivalent document.

Applicants requesting assistance for expenses related to Hurricanes Harvey, Irma, or Maria must identify if the applicant has previously received an allocation of FTA Public Transportation Emergency Relief Funds in Response to Hurricanes Harvey, Irma, and Maria and identify the expenses the previous allocations are reimbursing.

(c) Project Implementation Strategy

Projects will be reviewed based on the extent to which the project is ready to implement within a reasonable period of time and whether the applicant's proposed implementation plans are reasonable and complete.

In assessing whether the project is ready to implement within a reasonable period of time, FTA will consider whether the project qualifies for a categorical exclusion (CE), or whether the required environmental work has been initiated or completed for projects that require an environmental assessment or environmental impact statement under the National Environmental Policy Act of 1969 (NEPA). As such, applicants should submit information describing the project's completed or anticipated path and timeline through the environmental review process. If the applicant anticipates the project will qualify for a CE, the applicant must say so explicitly in the application. Emergency Relief projects may qualify for a CE as described in (F)(2)(d) of this Notice. A full list of FTA's CEs can be found at 23 CFR 771.118. The proposal must also state whether grant funds can be obligated within 12 months from time of award, if selected.

In assessing whether the proposed implementation plans are reasonable and complete, FTA will review the proposed project implementation plan, including all necessary project milestones and the overall project timeline. For projects that will require formal coordination, approvals, or permits from other agencies or project partners, the applicant must demonstrate coordination with these organizations and their support for the project, such as through letters of support.

(d) Technical, Legal, and Financial Capacity:

Applicants must demonstrate that they have the technical, legal, and financial capacity to undertake the project. FTA will review relevant oversight assessments and records to determine whether there are any outstanding legal, technical, or financial issues with the applicant that would affect the outcome of the proposed project. Additional information on the compliance requirements for these grants appears later in this notice.

Applicants with outstanding legal, technical, or financial compliance issues from an FTA compliance review or FTA grant-related Single Audit finding must explain how corrective actions taken will mitigate negative impacts on the project.

2. Review and Selection Process

The FTA Administrator will determine the final allocation of funding for each applicant after reviewing the information provided via this notice and validating damage assessments and cost estimates. FTA reserves the right to request additional information prior to making a determination as to Emergency Relief funding eligibility of any particular project. In the event the appropriated funding is not sufficient to fund all eligible projects, in determining the allocation of program funds, FTA may consider geographic diversity, diversity in the size of the transit systems receiving funding, and whether an applicant is from a small urban or rural area or is a tribal government. FTA may also consider capping the amount a single applicant may receive.

3. Integrity and Performance Review

Prior to making an award with a total amount of Federal share greater than the simplified acquisition threshold (currently $250,000), FTA is required to review and consider any information about the applicant that is in the Federal Awardee Performance and Integrity Information Systems (FAPIIS) accessible through SAM.GOV. An applicant may review and comment on information about itself that a Federal awarding agency previously entered. FTA will consider any comments by the applicant, in addition to the other information in FAPIIS, in making a judgment about the applicant's integrity, business ethics, and record of performance under Federal awards when completing the review of risk posed by applicants as described in 2 CFR 200.206.

F. Federal Award Administration Information

1. Federal Award Notices

Final project selections will be posted on the FTA website. Only proposals from eligible recipients for eligible activities will be considered for funding. There is no minimum or maximum grant award amount.

2. Administrative and National Policy Requirements

(a) Pre-Award Authority

Pre-award authority allows recipients to incur certain project costs before grant approval and retain the eligibility of those costs for subsequent reimbursement after grant approval. Pre-award authority as it relates to the Emergency Relief Program is described in the Emergency Relief Program final rule (49 CFR 602.11). In considering the use of pre-award authority, recipients should be aware of the following:

i. Pre-award authority is not a legal or implied commitment that the subject project will be approved for FTA assistance or that FTA will obligate Federal funds. Furthermore, it is not a legal or implied commitment that all activities undertaken by the applicant will be eligible for inclusion in the project.

ii. Except as waived pursuant to the waiver process described in this notice, all FTA statutory, procedural, and contractual requirements must be met.

iii. The recipient must take no action that prejudices the legal and administrative findings that FTA must make in order to approve a project, such as purchasing property prior to the completion of NEPA.

iv. The Federal amount of any future FTA assistance awarded to the recipient for the project will be determined on the basis of the overall scope of activities and the prevailing statutory provisions with respect to the Federal/non-Federal match ratio at the time the funds are obligated.

v. When FTA subsequently awards a grant for the project, the Federal Financial Report in TrAMS indicates the use of pre-award authority.

FTA grants pre-award authority to affected recipients for response, recovery, and rebuilding expenses incurred as a result of eligible major declared disasters as described in this Notice. Pre-award authority applies to expenses incurred in preparation for such disasters when forecasts specific to the disasters were available. Expenses incurred for general disaster preparedness are not eligible.

If a recipient intends to use pre-award authority for recovery and rebuilding expenses, FTA recommends the recipient work with the appropriate FTA regional office to verify that all of the proposed costs are eligible under the Emergency Relief Program in advance of incurring any costs to the extent practicable. FTA regional office contact information can be found at https://www.transit.dot.gov/about/regional-offices/regional-offices.

(b) Waiver of Remaining Useful Life Requirement

FTA is implementing a blanket waiver to relieve FTA recipients from its useful life requirement with respect to assets that were destroyed as a result of an eligible major declared disaster as described in this Notice and taken out of service before the end of their useful life. Such assets are presumed to have no remaining useful life. As a result of this waiver, recipients may apply for funds to replace assets without regard to the Federal interest remaining in the destroyed asset.

Although FTA has determined that federally-funded assets destroyed by major declared disasters have no remaining useful life, recipients may have a financial obligation to FTA for assets that have a fair market value (FMV) in excess of $5,000 at the time of disposition. For disposition requirements, please see FTA Circular 5010.1E, “Award Management Requirements,” chapter IV, subsection 4 and associated Frequently Asked Questions at https://www.transit.dot.gov/funding/grants/bipartisan-infrastructure-law-disposition-requirements-frequently-asked-questions.

(c) Treatment of Insurance Proceeds

As described in the Emergency Relief Program Manual, and consistent with the Emergency Relief Program final rule (49 CFR 602) and FTA Circular 5010.1E: Award Management Requirements, if a recipient receives or allocates insurance proceeds to a cost for which FTA either allocated or obligated Emergency Relief Program funds, the recipient will be required to amend the grant to reflect a reduced Federal amount, and will be required to reimburse FTA for any FTA payments (drawdown of funds) in excess of the new Federal amount. FTA will deobligate any excess or unliquidated funds from the grant. FTA may subsequently reallocate these funds through the Emergency Relief Program for other eligible projects.

In the event a recipient receives insurance proceeds for an asset and decides not to replace that asset, the waiver of useful life described in this Notice does not apply, and the recipient must reimburse FTA the remaining Federal interest in that asset in accordance with FTA Circular 5010.1E.

(d) Emergency Relief From FTA Regulatory Requirements

Recipients may request waivers of FTA administrative requirements by submitting a request to https://www.regulations.gov, FTA docket number FTA-2023-0001, as described in the Emergency Relief Program final rule (49 CFR 602.15), however, recipients should not proceed with a project with the expectation that waivers will be provided. FTA recommends recipients discuss waiver requests with their FTA regional offices prior to submission to the docket. Buy America waivers are not processed through the emergency relief docket; the process for Buy America waivers can be found in 49 CFR 661.9. Certain FTA regulatory requirements are waived during and after major declared disasters:

i. Charter: Transit agencies may take actions, such as providing service for evacuations, returning evacuees from shelters to their homes, transporting utility workers, and providing service to shelter residents, as long as these actions are directly related to a declaration of emergency by the President, governor, or mayor, without triggering the Charter Service rule (49 CFR 604). Transit agencies may provide such services for up to 45 days from the declaration of emergency.

ii. NEPA: FTA has determined that certain activities related to repairing transportation facilities damaged by an incident resulting in a Presidential disaster or emergency declaration are eligible for a CE (23 CFR 771.118(c)(11)). These actions include: Emergency repairs performed under FTA's Emergency Relief Program (49 U.S.C. 5324) or the repair, reconstruction, restoration, retrofitting, or replacement of any road, highway, bridge, tunnel, or transit facility (such as a ferry dock or bus transfer station), including ancillary transportation facilities (such as pedestrian/bicycle paths and bike lanes), that is in operation or under construction when damaged and the action: (1) occurs within the existing right-of-way and in a manner that substantially conforms to the preexisting design, function, and location as the original (which may include upgrades to meet existing codes and standards as well as upgrades warranted to address conditions that have changed since the original construction), and (2) begins within a 2-year period beginning on the date of the declaration. Recipients should capitalize on the opportunity created by emergency events to incorporate resiliency principles in restoration activities under this program. Incorporation of resiliency principles would help conserve Federal resources by avoiding repetitive damage to these facilities as a result of similar disasters and to avoid significant damage from other potential hazards.

iii. Procurement: Generally, procurement of goods and services by transit agencies must be completed via a competitive procurement. However, Federal regulations (2 CFR 200.320) permit noncompetitive contracting when the public exigency or emergency for the requirement will not permit a delay resulting from competitive solicitation. If a recipient will conduct a noncompetitive procurement under an FTA award, it must document its justification in writing at the time of the procurement.

(e) Grant Requirements

Once FTA allocates Emergency Relief funds to a recipient, the recipient will be required to submit a grant application electronically via FTA's TrAMS system.

FTA will assign distinct project identification numbers for recovery/rebuilding projects.

Recipients are required to maintain records, including but not limited to all invoices, contracts, time sheets, and other evidence of expenses to assist FTA in validating the eligibility and completeness of a recipient's reimbursement requests under the Improper Payment Information Act.

In the application, the eligible recipient should provide the information outlined in the Emergency Relief final rule (49 CFR 602.17). For grant applications for reimbursement for emergency operations costs, applicants should include summary information as described in the final rule (dates, hours, number of vehicles, and total fare revenues, if any, received for the emergency service), as well as cost and a description of services in sufficient detail for FTA to identify the costs as reasonable and eligible under the Emergency Relief Program. Backup or supporting documentation may be requested upon FTA's review of the application or at a later date. Any costs determined to be ineligible after disbursement of funds must be refunded to FTA.

All recipients are subject to the grant requirements of the Public Transportation Emergency Relief program (49 U.S.C. 5324), FTA's Master Agreement for financial assistance awards, and the annual Certifications and Assurances required of applicants. This includes section 21 of the Master Agreement, which provides the recipient “will comply with the insurance requirements normally imposed by its state and local laws, regulations, and ordinances,” and for those recipients with structures in a floodplain, “the Recipient agrees and assures that its Third Party Participants will agree to comply with flood insurance laws and guidance.” Before receiving a grant under FTA's Public Transportation Emergency Relief Program, recipients must submit documentation demonstrating proof of any insurance required under Federal law for all structures related to the grant application and certify they have insurance for those structures as required by State law as well. Insurance required under certain circumstances under Federal law includes, but may not be limited to, flood insurance and insurance for facilities previously repaired, restored, or rehabilitated with assistance received under the Stafford Act (see section 311 of the Robert T. Stafford Disaster Relief and Emergency Assistance Act).

All recipients must also follow the Award Management Requirements (FTA Circular 5010.1E) and the labor protections required by Federal public transportation law (49 U.S.C. 5333(b)). All of these documents are available on FTA's website. Technical assistance regarding these requirements is available from each FTA regional office.

(f) Buy America and Domestic Preference for Infrastructure Projects

As expressed in Executive Order 14005, `Ensuring the Future Is Made in All of America by All of America's Workers' (86 FR 7475), the Executive Branch should maximize, consistent with law, the use of goods, products, and materials produced in, and services offered in, the United States. Therefore, all capital procurements must comply with FTA's Buy America requirements (49 U.S.C. 5323(j)), which require that all iron, steel, and manufactured products be produced in the United States. In addition, any award must comply with the Build America, Buy America Act (BABA) (Pub. L. 117-58, sections 70901-27). BABA provides that none of the funds provided under an award made pursuant to this notice may be used for a project unless all iron, steel, manufactured products, and construction materials are produced in the United States. FTA's Buy America requirements are consistent with BABA requirements for iron, steel, and manufactured products.

Any proposal that will require a waiver of any domestic preference standard must identify the items for which a waiver will be sought in the application. Applicants should not proceed with the expectation that waivers will be granted.

(g) Civil Rights Requirements

As a condition of a grant award, grant recipients must demonstrate that the recipient has a plan for compliance with civil rights obligations and nondiscrimination laws, including title VI of the Civil Rights Act of 1964 and implementing regulations (49 CFR 21), the Americans with Disabilities Act of 1990 (ADA) and implementing regulations (49 CFR 37, 38 and 39), and section 504 of the Rehabilitation Act and implementing regulations (49 CFR 27), all other civil rights requirements, and accompanying regulations. This should include a current title VI plan, completed Community Participation Plan (alternatively called a Public Participation Plan and often part of the overall title VI program plan), if applicable. DOT's and the applicable Operating Administrations' Office of Civil Rights may work with awarded grant recipients to ensure full compliance with Federal civil rights requirements.

(h) Disadvantaged Business Enterprise

Recipients of planning, capital, or operating assistance that will award prime contracts (excluding transit vehicle purchases), the cumulative total of which exceeds $250,000 in FTA funds in a Federal fiscal year, must comply with the Disadvantaged Business Enterprise (DBE) program regulations (49 CFR 26).

To be eligible to bid on any FTA-assisted vehicle procurement, entities that manufacture transit vehicles or perform post-production alterations or retrofitting must be certified Transit Vehicle Manufacturers (TVM). If a vehicle remanufacturer is responding to a solicitation for new or remanufactured vehicles with a vehicle to which the remanufacturer has provided post-production alterations or retrofitting (e.g., replacing major components such as engine to provide a “like new” vehicle), the vehicle remanufacturer must be a certified TVM.

The TVM rule requires that, prior to bidding on any FTA-assisted vehicle procurement, manufacturers of transit vehicles submit a DBE Program plan and annual goal methodology to FTA. FTA then will issue a TVM concurrence and certification letter. Grant recipients must verify each manufacturer's TVM status before accepting its bid. A list of eligible TVMs is posted on FTA's website at https://www.transit.dot.gov/TVM. Recipients should contact FTA before accepting a bid from a manufacturer not on this list. In lieu of using a certified TVM, a recipient may establish project-specific DBE goals for its vehicle procurement. FTA will provide additional guidance as grants are awarded. For more information on DBE requirements, please contact Monica McCallum, FTA Office of Civil Rights, 206-220-7519, Monica.McCallum@dot.gov.

(i) Planning

In accordance with the planning regulation (23 CFR 450), emergency relief projects that do not involve substantial functional, locational, or capacity changes are not required to be in the Transportation Improvement Program (TIP) or Statewide Transportation Improvement Program (STIP).

(j) Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project unless FTA issues a written determination otherwise. The applicant must submit the Certifications and Assurances before receiving a grant if it does not have current certifications on file.

3. Reporting

Post-award reporting requirements include the electronic submission of Federal Financial Reports and Milestone Progress Reports. Applicant should include goals, targets, and indicators referenced in their application to the project in the Executive Summary of the TrAMS application.

FTA is committed to making evidence-based decisions guided by the best available science and data. In accordance with the Foundations for Evidence-Based Policymaking Act of 2018 (Evidence Act), FTA may use information submitted in discretionary funding applications; information in FTA's Transit Award Management System (TrAMS), including grant applications, Milestone Progress Reports (MPRs), Federal Financial Reports (FFRs); transit service, ridership and operational data submitted in FTA's National Transit Database; documentation and results of FTA oversight reviews, including triennial and state management reviews; and other publicly available sources of data to build evidence to support policy, budget, operational, regulatory, and management processes and decisions affecting FTA's grant programs.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this Notice, the recipient must comply with the Recipient Integrity and Performance Matters reporting requirements described in appendix XII to 2 CFR 200.

G. Federal Awarding Agency Contacts

For further information concerning this notice, please contact the Public Transportation Emergency Relief Program manager, Thomas Wilson, by phone at (202) 366-5279, or by email at Thomas.Wilson@dot.gov. A TDD is available for individuals who are deaf or hard of hearing at 800-877-8339. To ensure receipt of accurate information about eligibility or the program, the applicant is encouraged to contact FTA directly, rather than through intermediaries or third parties. For issues with GRANTS.GOV, please contact GRANTS.GOV by phone at 1-800-518-4726 or by email at support@grants.gov. Contact information for FTA's regional offices can be found on FTA's website at https://www.transit.dot.gov/about/regional-offices/regional-offices.

H. Other Information

This program is not subject to Executive Order 12372, “Intergovernmental Review of Federal Programs.” FTA will consider applications for funding only from eligible recipients for eligible projects listed in section C. All information submitted as part of or in support of any application shall use publicly available data or data that can be made public and methodologies that are accepted by industry practice and standards, to the extent possible. If an applicant submits information the applicant considers to be a trade secret or confidential commercial or financial information, the applicant must provide that information in a separate document, which the applicant may reference from the application narrative or other portions of the application. For the separate document containing confidential information, the applicant must do the following: (1) state on the cover of that document that it “Contains Confidential Business Information (CBI);” (2) mark each page that contains confidential information with “CBI;” (3) highlight or otherwise denote the confidential content on each page; and (4) at the end of the document, explain how disclosure of the confidential information would cause substantial competitive harm. FTA will protect confidential information complying with these requirements to the extent required under applicable law. If FTA receives a Freedom of Information Act (FOIA) request for the information that the applicant has marked in accordance with this section, FTA will follow the procedures described in DOT's FOIA regulations at 49 CFR 7.29. Only information that is in the separate document, marked in accordance with this section, and ultimately determined to be confidential will be exempt from disclosure under FOIA.

Nuria I. Fernandez,
Administrator.

[FR Doc. 2023-06250 Filed 3-24-23; 8:45 am]

BILLING CODE 4910-57-P